DEPARTMENT OF HEALTH AND HUMAN SERVICES

Centers for Disease Control and Prevention

[60Day-05BR]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 or send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The 317 Immunization Grant Program Evaluation—New—National Immunization Program (NIP), Centers for Disease Control and Prevention (CDC).

Background and Brief Description:

The 317 Immunization Grant Program is the primary vehicle through which CDC's NIP provides vaccine infrastructure. It has been in existence since its Congressional enactment in 1963 and provides annual grants to 50 states, six urban areas, four territories/commonwealths and four freely associated states for both vaccine assurance and vaccine delivery. The 317 Grant Program provides recipients with infrastructure support for diverse program activities including surveillance, immunization registries, training, education, public information and outreach, quality assurance of providers, vaccine management and purchase of vaccines for adults and children who do not qualify for the Vaccine for Children program.

In response to the Program Assessment Rating Tool (PART) review and the Office of Management and Budget's (OMB) recommendation for a comprehensive evaluation, a Grantee Immunization Survey of 50 state and 6 urban project 317 Immunization Program grantees will be conducted. The program will evaluate current operations and performance; recommend processes to improve efficiency, cost-effectiveness, and accountability; and provide direction for future funding cycles. Data will not be collected from the four territories/commonwealths and four freely associated states because of their unique socioeconomic, political and cultural environments.

The Grantee Immunization Survey will: (1) Provide information on the resources and management activities of the 317 Grant Program; (2) provide information that will enable the 317 Grant Program to monitor program operations and progress; and (3) provide a mechanism for systematic collection of robust program and cost data to monitor program operations and progress toward goals.

The 63 item Grantee Immunization Survey will be completed on-line via a password protected Web site by the Immunization Program Manager and other selected immunization program staff as needed. The results will be used to enhance the overall efficiency and efficacy of the 317 Program thus enhancing vaccine assurance and delivery.

Collection of the information for this study is a one-time effort. There are no direct costs to respondents other than their time to complete and return the questionnaire.

Estimate of Annualized Burden Table
Respondents | Number of respondents | Number responses per respondent | Average burden per response (in hours) | Total response burden (in hours)
317—Immunization Grant Program Grantees | 56 | 1 | 1 | 56

Dated: March 24, 2005.
Betsey Dunaway,
Acting Reports Clearance Officer, Centers for Disease Control and Prevention.

[FR Doc. 05-6683 Filed 4-4-05; 8:45 am]

BILLING CODE 4163-18-P